DEPARTMENT OF TRANSPORTATION

Federal Aviation Administration

Proposed Policy Statement on Establishing Supplemental Type Certificate (STC) Project Workload Priorities; PS-ACE100-2004-10028

AGENCY: Federal Aviation Administration (FAA), DOT.

ACTION: Notice of availability of proposed policy statement and request for comments.

SUMMARY: This notice announces the availability of, and requests comments on, proposed policy statement PS-ACE100-2004-10028, which establishes workload priorities for incoming supplemental type certificate projects (STC). When new STC projects arrive, the Aircraft Certification Office engineer or supervisor must prioritize these projects. To avoid devoting excessive FAA resources to incomplete data packages, we are establishing a policy that will minimize delays to applicants who submit complete packages.

DATES: Comments must be received on or before July 26, 2004.

ADDRESSES: Send all comments on the proposed policy statement to: Federal Aviation Administration, Small Airplane Directorate, Aircraft Certification Service, Regulations and Policy (ACE-111), 901 Locust Street, Kansas City, Missouri 64106.

FOR FURTHER INFORMATION CONTACT: Mr. Taylor Martin, Standards Office, Small Airplane Directorate, Aircraft Certification Service, Kansas City, Missouri 64106, telephone (816) 329-4138, fax (816) 329-4090.

SUPPLEMENTARY INFORMATION: Any person may obtain a copy of this proposed policy statement by contacting the person named above under FOR FURTHER INFORMATION CONTACT. A copy of the policy statement will also be available on the internet at http://www.airweb.faa.gov within a few days.

Comments Invited

We invite interested parties to submit comments on the proposed policy statement. Commenters must identify PS-ACE100-2004-10028 and submit comments to the address specified above. The FAA will consider all communications received on or before the closing date for comments before issuing the final policy statement. The proposed policy statement and comments received may be inspected at the Standards Office (ACE-110), 901 Locust, Room 301, Kansas City, Missouri, between the hours of 8:30 and 4 p.m. weekdays, except Federal holidays by making an appointment in advance with the person listed under FOR FURTHER INFORMATION CONTACT.

Background

Policy statement PS-ACE100-2004-10028, Establishing Supplemental Type Certificate (STC) Project Workload Priorities, has been drafted to aid both the applicant and the Aircraft Certification Offices in evaluating the priorities for STC projects. The FAA will give priority to projects that contain an application, a certification plan, and information about the intended use of FAA designees. Further details of the plan are contained in the proposed policy statement.

Issued in Kansas City, Missouri on May 12, 2004.
David R. Showers,
Acting Manager, Small Airplane Directorate, Aircraft Certification Service.

[FR Doc. 04-11784 Filed 5-24-04; 8:45 am]

BILLING CODE 4910-13-P